ENVIRONMENTAL PROTECTION AGENCY

[ER-FRL-8993-3]

Environmental Impact Statements; Notice of Availability

Responsible Agency: Office of Federal Activities, General Information (202) 564-1399 or http://www.epa.gov/compliance/nepa/.

Weekly receipt of Environmental Impact Statements

Filed 10/11/2010 Through 10/15/2010

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100410, Final EIS, USFS, OR,Cobbler II Timber Sale and Fuels Reduction Project, Proposing Vegetation and Fuels Management to Improve Health and Vigor Upland Forest Stands and Reduce Hazardous and Ladder Fuels, Walla Walla Ranger District, Umatilla National Forest, Wallowa and Union Counties, OR, Wait Period Ends: 11/22/2010, Contact: Betsy Kaiser 509-522-6290. This document is available on the Internet at: http://www.fs.fed.us/r6/uma/projects/readroom/.

EIS No. 20100411, Draft Supplement, USFS, ID,Nez Perce National Forest (NPNF), New Information and Proposed Route Designations, Designated Routes and Areas for Motor Vehicle Use (DRAMVU), Implementation, Idaho County, ID, Comment Period Ends: 12/06/2010, Contact: Jennie Fischer 208-983-4048.

EIS No. 20100412, Final Supplement, USFS, CA,Beaverslide Timber Sale and Fuel Treatment Project, Additional Analysis and New Information, Six Rivers National Forest, Mad River Range District, Trinity County, CA, Wait Period Ends: 11/22/2010, Contact: Thomas Hudson 707-574-6233.

EIS No. 20100413, Final EIS, BIA, NY,Cayuga Indian Nation of New York Conveyance of Land into Trust Project, Approval of a 125 + Acre Fee-To-Trust Property Transfer of Seven Separate Parcel located in the Village of Union Springs and Town of Springport and Montezuma in Cayuga County and the Town of Seneca Falls in Seneca County, NY, Wait Period Ends: 11/22/2010, Contact: Kurt Chandler 615-564-6832.

EIS No. 20100414, Final EIS, USFS, SD,Mystic Range Project Area, Propose to Reauthorize Grazing of Domestic Livestock on Eight Allotments, Black Hills National Forest, Pennington and Custer Counties, SD, Wait Period Ends: 11/22/2010, Contact: Katie Van Alstyne 605-343-1567.

EIS No. 20100415, Final EIS, DOE, CA,ADOPTION—Ivanpah Solar Electric Generating System (07-AFC-5) Project, Proposal to Construct a 400-m Megawatt Concentrated Solar Power Tower, Thermal-Electric Power Plant, San Bernardino County, CA, Wait Period Ends: 11/22/2010, Contact: Matthew McMillen 202-586-7248. U.S. DOE has adopted the DOI/BIA's FEIS #20100292 filed 07/29/2010. DOE was a Cooperating Agency for the above FEIS. Recirculation of the document is not necessary under Section 1506.3(b) of the CEQ Regulations.

EIS No. 20100416, Draft EIS, WAPA, CA, Rice Solar Energy Project, Proposed 150 megawatt Solar Energy Generating Facility, a 161-kV/230-kV Electrical Transmission Tie-Line and a 161-kV/230-kV Electrical Interconnection Switchyard, Riverside County, CA, Comment Period Ends: 01/19/2011, Contact: Liana Reilly 720-962-7253.

EIS No. 20100417, Final EIS, USN, 00,United States Marine Corps Joint Strike Fighter F-35B West Coast Basing, To Efficiently and Effectively Maintain Combat Capability and Mission Readiness, CA and AZ, Wait Period Ends: 11/22/2010, Contact: Adrianne Saboya 619-532-4742.

EIS No. 20100418, Final EIS, USN, 00,East Coast Basing of the F-35B Project, Construction, Demolition and/or Modification Airfield Facilities and Infrastructure, SC and NC, Wait Period Ends: 11/22/2010, Contact: Linda Blount 757-341-0491.

EIS No. 20100419, Final EIS, USACE, CA,American River Watershed Common Features Project/Natomas Post-Authorization Change Report/Natomas Levee Improvement Program, Phase 4b Landside Improvements Project, Sacramento and Sutter Counties, CA, Wait Period Ends: 11/22/2010, Contact: Elizabeth Holland 916-557-6763.

EIS No. 20100420, Final EIS, USFS, OR,Mill Creek Allotment Management Plans Project, Reauthorization of Grazing Permit on Five Grazing Allotments, Lookout Mountain Ranger District, Ochoco National Forest, Crook County, OR, Wait Period Ends: 11/22/2010, Contact: Marcy Anderson 541-416-6463.

EIS No. 20100421, Final EIS, USACE, CA,Sunridge Properties Project, Implementing Alternatives for Six Residential Development Projects City of Rancho Cordova, Sacramento Counties, CA, Wait Period Ends: 11/22/2010, Contact: Michael Jewell 916-557-6605.

EIS No. 20100422, Third Final Supplement, FTA, 00,South Corridor Portland-Milwaukie Light Rail Project, Proposal to Develop Light Rail Transit in Final Segment, Connecting Downtown Portland, OR, the City of Milwaukie and north Clackamas and Mulnomah Counties, OR and Clark County, WA, Wait Period Ends: 11/22/2010, Contact: James Saxton 206-220-4311.

Amended Notices

EIS No. 20100326, Draft EIS, NPS, SD,South Unit—Badlands National Park, General Management Plan, Implementation, SD, Comment Period Ends: 11/01/2010, Contact: Eric J. Brunnemann 605-433-5361. Revision of FR Notice Published 08/20/2010: Extending Comment Period from 10/18/2010 to 11/01/2010.

Dated: October 19, 2010.
Ken Mittelholtz,
Deputy Director, NEPA Compliance Division, Office of Federal Activities.

[FR Doc. 2010-26739 Filed 10-21-10; 8:45 am]

BILLING CODE 6560-50-P